DEPARTMENT OF THE INTERIOR

Bureau of Land Management

[LLAK931000.L10200000.EE0000.245; OMB Control No. 1004-0182]

Agency Information Collection Activities; Alaska Reindeer Grazing Requirements

AGENCY: Bureau of Land Management, Interior.

ACTION: Notice of information collection; request for comment.

SUMMARY: In accordance with the Paperwork Reduction Act of 1995, the Bureau of Land Management (BLM) proposes to reinstate an expired information collection.

DATES: Interested persons are invited to submit comments on or before November 5, 2024.

ADDRESSES: Send your written comments on this information collection request (ICR) by mail to Darrin King, Information Collection Clearance Officer, U.S. Department of the Interior, Bureau of Land Management, Attention PRA Office, 440 W 200 S #500, Salt Lake City, UT 84101; or by email to BLM_HQ_PRA_Comments@blm.gov. Please reference Office of Management and Budget (OMB) Control Number 1004-0182 in the subject line of your comments. Please note that the electronic submission of comments is recommended.

FOR FURTHER INFORMATION CONTACT: To request additional information about this ICR, contact Aliza D. DuComb, by email at aducomb@blm.gov, or by telephone at (907) 267-1398 or Ann Erickson, by email at aerickson@bml.gov, or by telephone at (907) 271-1985. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act of 1995 (PRA, 44 U.S.C. 3501 et seq.) and 5 CFR 1320.8(d)(1), all information collections require approval under the PRA. We may not conduct or sponsor, and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether the collection of information is necessary for the proper performance of the functions of the agency, including whether the information will have practical utility;

(2) The accuracy of our estimate of the burden for this collection of information, including the validity of the methodology and assumptions used;

(3) Ways to enhance the quality, utility, and clarity of the information to be collected; and

(4) How might the agency minimize the burden of the collection of information on those who are to respond, including the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The BLM plans to request that OMB reinstate with changes OMB Control Number 1004-0182 which was inadvertently allowed to expire in September 2004. The BLM collects certain information from Alaska Natives interested in reindeer grazing activities on public lands that BLM administers in the State of Alaska. This information allows BLM to determine the compatibility of reindeer grazing on public lands with resource management guidelines developed in land use plans and multiple-use objectives described in 43 CFR part 4300.

The changes to this OMB Control Number from when it was last active in 2004 include discontinuing the form AK 4132-1-1, Reindeer Permit Application, as it was determined that the form lacks utility, and the BLM will also request to include the following information collections that are contained in the 43 CFR 4300 but were not previously accounted for under this OMB Control Number:

• Reindeer Grazing Permit Annual Report (43 CFR 4300.45);

• Assign permit to another party (43 CFR 4300.59 and 4300.60); and

• Permit to cross reindeer over public lands (43 CFR 4300.80).

This request is for OMB to reinstate with the above changes OMB Control Number 1004-0182.

Title of Collection: Alaska Reindeer Grazing Requirements (43 CFR 4300).

OMB Control Number: 1004-0182.

Form Numbers: AK 4201-1, Grazing Lease or Permit Application (OMB No. 1004-0182) and Form 4120-7, Application for Range Improvement Permit (OMB No. 1004-0019).

Type of Review: Reinstatement with change of a previously approved collection.

Respondents/Affected Public: Alaska Natives interested in reindeer grazing activities on public lands that BLM administers in the State of Alaska.

Total Estimated Number of Annual Respondents: 6.

Total Estimated Number of Annual Responses: 8.

Estimated Completion Time per Response: Varies from 1 hour to 30 minutes depending on activity.

Total Estimated Number of Annual Burden Hours: 11.

Respondent's Obligation: Required to obtain or retain a benefit.

Frequency of Collection: On occasion and annual.

Total Estimated Annual Non-hour Burden Cost: $12.

An agency may not conduct or sponsor and, notwithstanding any other provision of law, a person is not required to respond to a collection of information unless it displays a currently valid OMB control number.

The authority for this action is the Paperwork Reduction Act of 1995 (44 U.S.C. 3501 et seq.).

Darrin A. King,
Information Collection Clearance Officer.

[FR Doc. 2024-20116 Filed 9-5-24; 8:45 am]

BILLING CODE 4310-FB-P